ENVIRONMENTAL PROTECTION AGENCY

[FRL-7230-1]

Velsicol/Hardeman County Landfill Superfund Site Mathis Brothers/South Marble Top Road Landfill Superfund Site Shaver's Farm Superfund Site; Notice of Proposed Settlement

AGENCY: Environmental Protection Agency.

ACTION: Notice; request for public comment.

SUMMARY: In accordance with section 122(i) of the Comprehensive Environmental Response, Compensation, and Liability Act, as amended (“CERCLA”), 42 U.S.C. 9622(i), notice is hereby given of a proposed administrative ability-to-pay settlement with Velsicol Chemical Corporation for recovery of past and future response costs concerning six superfund sites: The Velsicol/Hardeman County Landfill Superfund Site, Toone, Hardeman County, Tennessee; the Mathis Brothers/South Marble Top Road Landfill Superfund Site, Kensington, Walker County, Georgia; the Valley Chemical Superfund Site, Greenville, Mississippi; the Tennessee Products Superfund Site, Chattanooga, Tennessee; the Former Coke Production Plant Property, Chattanooga, Tennessee; and the Shaver's Farm Superfund Site, Lafayette, Walker County, Georgia. The Agreement requires Velsicol Chemical Corporation to pay up to approximately $3.5 million dollars, plus interest, to resolve its outstanding and potential liabilities at the six Sites. For thirty (30) days following the date of publication of this notice, the Agency will receive written comments relating to the settlement. The Agency will consider all comments received and may modify or withdraw its consent to the settlement if comments received disclose facts or considerations which indicate that the settlement is inappropriate, improper, or inadequate. Copies of the proposed settlement are available from: Ms. Paula V. Batchelor, U.S. Environmental Protection Agency, Region IV, Waste Management Division, 61 Forsyth Street, SW, Atlanta, Georgia 30303, 404/562-8887.

Written comments may be submitted to Ms. Batchelor at the above address within 30 days of the date of publication.

Dated: May 17, 2002.
Anita L. Davis,
Acting Chief, CERCLA Program Services Branch, Waste Management Division.

[FR Doc. 02-14764 Filed 6-11-02; 8:45 am]

BILLING CODE 6560-50-P